DEPARTMENT OF ENERGY

Federal Energy Regulatory Commission

[Project Nos. 14130-000; 14137-000]

Riverbank Hydro No. 2, LLC; Lock+ Hydro Friends Fund XXXVI; Notice Announcing Preliminary Permit Drawing

The Commission has received two preliminary permit applications deemed filed on April 1, 2011, at 8:30 a.m.,¹ for proposed projects to be located on the Arkansas River, in Lincoln County and Jefferson County, Arkansas. The applications were filed by Riverbank Hydro No. 2, LLC for Project No. 14130-000 and Lock+ Hydro Friends Fund XXXVI for Project No. 14137-000.

¹ Under the Commission's Rules of Practice and Procedure, any document received after regular business hours is considered filed at 8:30 a.m. on the next regular business day. 18 CFR 385.2001(a)(2) (2011).

On February 22, 2012, at 9 a.m. (Eastern Time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2011).

The drawing is open to the public and will be held in room 2C, the Commission Meeting Room, located at 888 First St. NE., Washington, DC 20426. A subsequent notice will be issued by the Secretary announcing the results of the drawing.

Dated: February 13, 2012.
Nathaniel J. Davis, Sr.,
Deputy Secretary.

[FR Doc. 2012-3882 Filed 2-17-12; 8:45 am]

BILLING CODE 6717-01-P